DEPARTMENT OF TRANSPORTATION

Coast Guard

33 CFR Part 117

[CGD01-00-193]

RIN 2115-AE47

Drawbridge Operation Regulations; Kennebec River, ME

AGENCY: Coast Guard, DOT.

ACTION: Notice of proposed rulemaking.

SUMMARY: The Coast Guard proposes to change the drawbridge operating regulations for the Carlton (U.S. 1) highway-railroad bridge, at mile 14.0, across the Kennebec River between Bath and Woolwich, Maine. This proposed rule will remove unnecessary operating restrictions from the regulations and provide relief to the bridge owner from the requirement to crew the bridge during periods when there have been few requests to open the bridge.

DATES: Comments must reach the Coast Guard on or before December 5, 2000.

ADDRESSES: You may mail comments to Commander (obr), First Coast Guard District, Bridge Branch, at 408 Atlantic Avenue, Boston, MA 02110-3350, or deliver them to the same address between 7 a.m. and 3 p.m., Monday through Friday, except Federal holidays. The telephone number is (617) 223-8364. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except, Federal holidays.

FOR FURTHER INFORMATION CONTACT: John McDonald, Project Officer, First Coast Guard District, (617) 223-8364.

SUPPLEMENTARY INFORMATION:

Request for Comments

We encourage you to participate in this rulemaking by submitting comments or related material. If you do so, please include your name and address, identify the docket number for this rulemaking (CGD01-00-193), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the First Coast Guard District, Bridge Branch, at the address under ADDRESSES explaining why one would be beneficial. If we determine that one would aid this rulemaking, we will hold one at a time and place announced by a later notice in the Federal Register.

Background and Purpose

The Carlton (U.S. 1) highway-railroad bridge, at mile 14.0, across the Kennebec River has a vertical clearance in the closed position of 10 feet at mean high water and 16 feet at mean low water. The existing drawbridge operating regulations are listed at 33 CFR 117.525. Vehicular traffic no longer travels over the Carlton Bridge because a new fixed highway bridge has been constructed upstream. The bridge will continue to operate as a railroad bridge only.

The bridge owner, Maine Department of Transportation (MDOT), asked the Coast Guard to remove the unnecessary restrictions from the regulations and to add several time periods during which the bridge will open on an on call basis. The bridge presently is allowed to remain closed to navigation from 6 a.m. to 7:30 a.m. and from 3:15 p.m. to 5:30 p.m., Monday through Friday, excluding holidays. These closed periods were added to the regulations to prevent vehicular traffic congestion in Bath during the shift changes at the Bath Iron Works. These closed periods are no longer necessary and will be removed by this rule.

The bridge owner has also requested relief from crewing the bridge from 5 p.m. to 8 a.m., daily, and all day on Saturdays and Sundays from October 1 through May 14. The bridge opening log data submitted by MDOT indicates a relatively low number of requests to open the bridge during the time periods the bridge owner has requested that the bridge shall operate on an on call basis. The greater amount of bridge openings in 1999, are attributed to construction vessel traffic during the building of the new highway bridge upstream from the Carlton Bridge.

Bridge Openings Between 5 p.m. and 8 a.m.
| Jan | Feb | Mar | Apr | May | Jun | Jul | Aug | Sep | Oct | Nov | Dec
1997 | 0 | 0 | 0 | 0 | 9 | 6 | 7 | 13 | 5 | 12 | 0 | 0
1998 | 0 | 2 | 1 | 2 | 1 | 6 | 4 | 6 | 3 | 10 | 7 | 6
1999 | 2 | 7 | 2 | 4 | 21 | 24 | 36 | 5 | 10 | 20 | 29 | 12
2000 | 0 | 0 | 4 | 0 | 12 |  |  |  |  |  |  |

Bridge Openings Saturdays/Sundays, October 1 Through May 14
| Oct | Nov | Dec | Jan | Feb | Mar | Apr | May
1997 | 9 | 0 | 0 | 0 | 0 | 0 | 0 | 2
1998 | 10 | 7 | 3 | 0 | 2 | 0 | 0 | 0
1999 | 11 | 13 | 4 | 1 | 5 | 2 | 2 | 1
2000 |  |  |  | 0 | 0 | 3 | 0 | 0

The Coast Guard believes that operating the Carlton Bridge on an advance notice basis from 5 p.m. to 8 a.m., daily, and all day on Saturdays and Sundays, from October 1 through May 14, is reasonable and will still meet the needs of navigation. This conclusion is based upon the low number of opening requests received over the past several years and the fact that the bridge will still open on signal after the advance notice is given.

Discussion of Proposal

The Coast Guard proposes to revise the operating regulations listed at 33 CFR 117.525 for the Carlton (U.S. 1) highway-railroad bridge.

The bridge will no longer be called the Carlton (U.S. 1) highway-railroad bridge in the regulations. It will simply be called the Carlton Bridge.

Paragraph (a)(1), which requires the bridge to open for emergency situations, will be removed because it is now listed at 33 CFR 117.31.

Paragraph (a)(2) will be removed because the bridge no longer carries vehicular traffic.

Paragraph (a)(3) will be removed because train traffic is so infrequent that regulation to prevent conflicts between vessel and train traffic is no longer necessary.

Paragraphs (a)(4) through (a)(7) will be removed and replaced as simply paragraph (a)(1) through (a)(2) indicating the new operating regulations for the Carlton Bridge.

Paragraph (b) for the Route 197 Bridge, mile 27.1, between Richmond and Dresden, Maine, will remain unchanged.

The proposed new operating hours for the Carlton Bridge would require that from May 15 through September 30, the draw would open on signal; except that, from 5 p.m. to 8 a.m., the draw would open on signal if at least a two-hour advance notice is given.

From October 1 through May 14, the draw would open on signal; except that, from 5 p.m. to 8 a.m., the draw would open on signal after a twenty-four hours advance notice is given and from 8 a.m. to 5 p.m., on Saturday and Sunday, the draw would open on signal after an eight-hour notice is given.

Regulatory Evaluation

This proposed rule is not a “significant regulatory action” under section 3(f) of Executive Order 12866 and does not require an assessment of potential costs and benefits under 6(a)(3) of that Order. The Office of Management and Budget has not reviewed it under that Order. It is not significant under the regulatory policies and procedures of the Department of Transportation (DOT) (44 FR 11040, Feb. 26, 1979).

We expect the economic impact of this proposed rule to be so minimal that a full Regulatory Evaluation, under paragraph 10e of the regulatory policies and procedures of DOT, is unnecessary. This conclusion is based on the fact that the bridge will still open for marine traffic at all times provided the advance notice is given.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under section 5 U.S.C. 605(b), that this proposed rule would not have a significant economic impact on a substantial number of small entities. This conclusion is based upon the fact that the bridge will still open for all vessel traffic at all times after the advance notice is given.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520.).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (32)(e), of Commandant Instruction M16475.1C, this proposed rule is categorically excluded from further environmental documentation because promulgation of drawbridge regulations have been found not to have a significant effect on the environment. A “Categorical Exclusion Determination” is available in the docket where indicated under ADDRESSES.

List of Subjects in 33 CFR Part 117

Bridges.

Regulations

For the reasons set out in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.525(a) is revised to read as follows:

§ 117.525 Kennebec River

(a) The draw of the Carlton Bridge, mile 14.0, between Bath and Woolwich shall operate as follows:

(1) From May 15 through September 30 the draw shall open on signal; except that, from 5 p.m. to 8 a.m., the draw shall open on signal if a two-hour notice is given by calling the number posted at the bridge.

(2) From October 1 through May 14 the draw shall open on signal; except that, from 5 p.m. to 8 a.m., the draw shall open on signal after a twenty-four hour advance notice is given and on Saturdays and Sundays from 8 a.m. to 5 p.m. the draw shall open on signal after an eight-hour advance notice is given by calling the number posted at the bridge.

* * * * *

Dated: September 13, 2000.
G.N. Naccara,
U.S. Coast Guard, Commander, First Coast Guard District.

[FR Doc. 00-25755 Filed 10-5-00; 8:45 am]

BILLING CODE 4910-15-P